DEPARTMENT OF TRANSPORTATION

Federal Aviation Administration

FAA Approval of Noise Compatibility Program 14 CFR Part 150; Jackson Hole Airport, Jackson, WY

AGENCY: Federal Aviation Administration, DOT.

ACTION: Notice.

SUMMARY: The Federal Aviation Administration (FAA) announces its findings (Record of Approval) on the noise compatibility program submitted by the Jackson Hole Airport under the provisions of the Aviation Safety and Noise Abatement Act, (hereinafter referred to as “the Act”) and 14 CFR part 150 (Part 150). On March 23, 2018, the FAA determined that the noise exposure maps submitted by the Jackson Hole Airport under Part 150 were in compliance with applicable requirements. On August 1, 2018 the FAA approved the Jackson Hole Airport Noise Compatibility Program. Five of the 15 measures recommended in the noise compatibility plan was approved and ten measures were disapproved for the purposes of Part 150. Three of the approved recommendations were approved as a continuation of a measure approved in a prior ROA, one was approved as voluntary, and one was approved for the purposes of Part 150. The attachment to this ROA provides a summary of all of the recommendations in the three NCPs (1985, 2004 and 2018) for JAC along with FAA's decision and the status of each.

DATES: Effective Date: The effective date of the FAA's approval of the Jackson Hole Airport Noise Compatibility Program is August 1, 2018.

FOR FURTHER INFORMATION CONTACT: Kandice Krull, Federal Aviation Administration, Denver Airports District Office, 26805 E 68th Ave., Suite 224, Denver, CO 80249, telephone 303-342-1261. Documents reflecting this FAA action may be reviewed at this same location.

SUPPLEMENTARY INFORMATION: This notice announces that the FAA has given its overall approval to the noise compatibility program for the Jackson Hole Airport, effective August 1, 2018.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with the Part 150 regulations is a local program, not a Federal program. The FAA does not substitute its judgment for that of the airport proprietor with respect to which measures should be recommended for action. The FAA's approval or disapproval of Part 150 program recommendations is measured according to the standards expressed in Part 150 and the Act and is limited to the following determinations:

a. The noise compatibility program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required, and an FAA decision on the request may require an environmental review of the proposed action. Approval does not constitute a commitment by the FAA to financially assist in the implementation of the program nor a determination that all measures covered by the program are eligible for grant-in-aid funding from the FAA. Where federal funding is sought, requests for project grants must be submitted to the FAA Denver Airports District Office in Denver, CO. The Jackson Hole Airport submitted to the FAA on March 21, 2018 the noise exposure maps, descriptions, and other documentation produced during the noise compatibility planning study for the Jackson Hole Airport conducted in 2013-2018. The Jackson Hole Airport noise exposure maps were determined by FAA to be in compliance with applicable requirements on March 23, 2018. Notice of this determination was published in the Federal Register on April 5, 2018 (FR Volume 83, No. 66, pages 14713-14714).

Comments received during the noise compatibility planning public process were addressed in the final noise compatibility program submitted to FAA. No comments were received during the 60-day public comment period for the Jackson Hole Airport Noise Compatibility Program that ended May 22, 2018.

The Jackson Hole Airport study contains a proposed noise compatibility program comprised of actions designed for phased implementation by airport management and adjacent jurisdictions. It was requested that the FAA evaluate and approve this material as a noise compatibility program as described in section 47504 of the Act. The FAA began its review of the program on March 23, 2018, and was required by a provision of the Act to approve or disapprove the program within 180 days (other than the use of new or modified flight procedures for noise control). Failure to approve or disapprove such program within the 180-day period shall be deemed to be an approval of such program.

The submitted program contained six (6) noise abatement recommendations, two (2) land use management recommendations and seven (7) program management recommendations for FAA action. The FAA completed its review and determined that the procedural and substantive requirements of the Act and Part 150 have been satisfied. The overall program therefore, was approved by the FAA on August 1, 2018.

Approval was granted for five of the 15 measures and ten measures were disapproved for the purposes of Part 150. Three of the approved recommendations were approved as a continuation of a measure approved in a prior ROA, one was approved as voluntary, and one was approved for the purposes of Part 150. The attachment to this ROA provides a summary of all of the recommendations in the three NCPs for JAC along with FAA's decision and the status of each.

These determinations are set forth in detail in a Record of Approval signed by the Airports Division Manager, Northwest Mountain Region on August 1, 2018. The Record of Approval, as well as other evaluation materials and the documents comprising the submittal are available for review at the FAA office listed above and at the Jackson Hole Airport, 1250 E Airport Road, Jackson, WY 83001. The Record of Approval also will be available on-line at http://www.faa.gov/airports/environmental/airport_noise/part_150/states/.

Issued in Renton, Washington on August 1, 2018.
Randall S. Fiertz,
Manager, Airports Division, Northwest Mountain Region.

[FR Doc. 2018-16870 Filed 8-6-18; 8:45 am]

BILLING CODE 4910-13-P